INTERNATIONAL TRADE COMMISSION

[Investigation Nos. 337-TA-055, 087, 105, 112, 287, 295]

Certain Novelty Glasses; Certain Coin-Operated Audio Visual Games and Components Thereof; Certain Coin-Operated Audio Visual Games and Components Thereof (Viz., Rally-X and Pac-Man); Certain Cube Puzzles; Certain Strip Lights; Certain Novelty Teleidoscopes; Request for Written Submissions on Whether Certain Commission Exclusion Orders Should Be Rescinded, in Whole or in Part, Based on Changed Conditions of Fact or Law or the Public Interest

AGENCY: U.S. International Trade Commission.

ACTION: Notice.

SUMMARY: Notice is hereby given that the U.S. International Trade Commission is requesting submissions on whether the exclusion orders issued at the conclusion of the following six Commission investigations should be rescinded, in whole or in part, based on changed conditions of fact or law, or the public interest, pursuant to 19 CFR 210.76: Certain Novelty Glasses, Inv. No. 337-TA-055, Exclusion Order (July 11, 1979); Certain Coin-Operated Audio Visual Games and Components Thereof, Inv. No. 337-TA-087, Exclusion Order (June 25, 1981); Certain Coin-Operated Audio Visual Games and Components Thereof (Viz., Rally-X and PAC MAN), Inv. No. 337-TA-105, Exclusion Order (January 15, 1982); Certain Cube Puzzles, Inv. No. 337-TA-112, Exclusion Order (December 30, 1982); Certain Strip Lights, Inv. No. 337-TA-287, Exclusion Order (September 28, 1989); and Certain Novelty Teleidoscopes, Inv. No. 337-TA-295, Exclusion Order (April 11, 1990).

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: U.S. Customs and Border Protection (“CBP”) has notified the Commission that the six above-identified exclusion orders may be candidates for rescission based on changed conditions of fact or law. Each of the above-identified exclusion orders issued over twenty (20) years ago and each resulted from a Commission investigation alleging a violation of section 337 based on at least trademark or trade dress infringement. CBP's preliminary investigation has indicated that the trademarks or trade dress at issue in the exclusion orders are no longer used in commerce or complainant has stopped making required compliance filings. See EDIS Document Nos. 542137-42. The Commission therefore is requesting submissions from the public, including the current owners of the trademarks or trade dress at issue, on whether these exclusion orders should be rescinded based on changed conditions of fact or law, or the public interest, pursuant to 19 CFR 210.76.

The public interest factors that will be considered by the Commission in determining whether to rescind the exclusion orders include the following: (1) The public health and welfare, (2) competitive conditions in the U.S. economy, (3) U.S. production of articles that are like or directly competitive with those that are subject to investigation, and (4) U.S. consumers.

Written Submissions: The parties to the investigations, the current rights' holders or successors-in-interest to the trademarks or trade dress at issue, interested government agencies, and any other interested parties are encouraged to file written submissions on whether the Commission should rescind the exclusion orders at issue based on changed conditions of fact or law or the public interest. The written submissions must be filed no later than close of business on December 22, 2014. Reply submissions must be filed no later than the close of business on January 20, 2015. No further submissions on these issues will be permitted unless otherwise ordered by the Commission.

Persons filing written submissions must file the original document electronically on or before the deadlines stated above and submit 8 true paper copies to the Office of the Secretary by noon the next day pursuant to Commission rule 210.4(f), 19 CFR 210.4(f). Submissions should refer to the investigation number (e.g., “Inv. No. 337-TA-055”) in a prominent place on the cover page and/or the first page. (See Handbook for Electronic Filing Procedures, http://www.usitc.gov/secretary/fed_reg_notices/rules/handbook_on_electronic_filing.pdf).

Any person desiring to submit a document (or portion thereof) to the Commission in confidence must request confidential treatment unless the information has already been granted such treatment during the proceedings. All such requests should be directed to the Secretary of the Commission and must include a full statement of the reasons why the Commission should grant such treatment. See 19 CFR 210.6. Documents for which confidential treatment by the Commission is sought will be treated accordingly. All nonconfidential written submissions will be available for public inspection at the Office of the Secretary.

The authority for the Commission's determination is contained in section 337 of the Tariff Act of 1930, as amended, 19 U.S.C. 1337, and in Part 210 of the Commission's Rules of Practice and Procedure, 19 CFR part 210.

By order of the Commission.
Issued: October 22, 2014.
Lisa R. Barton,
Secretary to the Commission.

[FR Doc. 2014-25546 Filed 10-27-14; 8:45 am]

BILLING CODE 7020-02-P